DEPARTMENT OF TRANSPORTATION

Federal Aviation Administration

14 CFR Part 39

[Docket No. 2002-NM-298-AD]

RIN 2120-AA64

Airworthiness Directives; Airbus Model A320 Series Airplanes

AGENCY: Federal Aviation Administration, DOT.

ACTION: Notice of proposed rulemaking (NPRM).

SUMMARY: This document proposes the adoption of a new airworthiness directive (AD) that is applicable to certain Model A320 series airplanes. This proposal would require a detailed inspection of the tail cone triangle to determine its position, and corrective actions if necessary. This action is necessary to prevent excessive vibrations of the elevators, which could result in reduced structural integrity and reduced controllability of the airplane. This action is intended to address the identified unsafe condition.

DATES: Comments must be received by July 19, 2004.

ADDRESSES: Submit comments in triplicate to the Federal Aviation Administration (FAA), Transport Airplane Directorate, ANM-114, Attention: Rules Docket No. 2002-NM-298-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-298-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-298-AD.” The postcard will be date stamped and returned to the commenter.

Availability of NPRMs

Any person may obtain a copy of this NPRM by submitting a request to the FAA, Transport Airplane Directorate, ANM-114, Attention: Rules Docket No. 2002-NM-298-AD, 1601 Lind Avenue, SW., Renton, Washington 98055-4056.

Discussion

The Direction Générale de l'Aviation Civile (DGAC), which is the airworthiness authority for France, notified the FAA that an unsafe condition may exist on certain Airbus Model A320 series airplanes. The DGAC advises that the tail cone triangles were not installed properly on certain airplanes during production, resulting in possible mis-rigged elevator servo-controls. Mis-rigged elevator servo controls may result in low hinge moments and possible vibrations, if combined with elevator freeplay. This condition, if not corrected, could result in excessive vibrations of the elevator, which could result in reduced structural integrity and reduced controllability of the airplane.

Other Related Rulemaking

On August 10, 2001, the FAA issued AD 2001-16-09, amendment 39-12377 (66 FR 43471, August 20, 2001), applicable to all Airbus Model A319, A320, and A321 series airplanes. That AD currently requires periodic inspection of the elevators for excessive freeplay, repair of worn parts if excessive freeplay is detected, and modification of the elevator neutral setting. That action was prompted by reports of severe vibration in the aft cabin of Model A320 series airplanes, and studies that indicate that the primary cause is excessive freeplay in the elevator attachments. The requirements of that AD are intended to prevent excessive vibration of the elevators, which could result in reduced structural integrity and reduced controllability of the airplane.

Since issuance of AD 2001-16-09, several operators of Airbus Model A320 series airplanes have reported airframe vibrations originating from the elevator surfaces due to mis-rigged elevator servo controls.

Explanation of Relevant Service Information

Airbus has issued Service Bulletin A320-27-1132, Revision 01, dated June 19, 2002, which describes procedures for performing a detailed visual inspection of the position of each tail cone triangle based on certain measurements; and corrective actions if necessary. The corrective actions include re-rigging the elevator servo controls to adjust the elevator neutral setting, and changing the position of the tail cone triangle. Accomplishment of the actions specified in the service bulletin is intended to adequately address the identified unsafe condition. The DGAC classified this service bulletin as mandatory and issued French airworthiness directive 2002-514(B) R1, dated November 13, 2002, to ensure the continued airworthiness of these airplanes in France.

FAA's Conclusions

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Difference Between the Proposed Rule and the Service Bulletin

Operators should note that, although the service bulletin describes procedures for submitting certain information to the manufacturer, this proposed AD would not require those actions. The FAA does not require this information.

Differences Between the Proposed Rule and the French Airworthiness Directive

Although paragraphs 3.1 and 3.2 of the French airworthiness directive state that operators must perform periodic inspection of the elevators for excessive freeplay; repair worn parts if excessive freeplay is detected; and modify the elevator neutral setting; this proposed AD does not include those actions. Those actions are already included in AD 2001-16-09, amendment 39-12377 (66 FR 43471, August 20, 2001). This proposed AD includes only the actions described in paragraph 3.3 of the French airworthiness directive.

Although the French airworthiness directive is applicable to all Airbus Model A319, A320, and A321 series airplanes, this proposed AD applies only to certain Airbus Model A320 series airplanes. The action in paragraph 3.3 of the French airworthiness directive applies only to that model.

Cost Impact

The FAA estimates that 64 airplanes of U.S. registry would be affected by this proposed AD, that it would take approximately 1 work hour per airplane to accomplish the proposed inspection, and that the average labor rate is $65 per work hour. Based on these figures, the cost impact of the proposed AD on U.S. operators is estimated to be $4,160, or $65 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2002-NM-298-AD.

Applicability: Model A320 series airplanes, as listed in Airbus Service Bulletin A320-27-1132, Revision 01, dated June 19, 2002; certificated in any category.

Compliance: Required as indicated, unless accomplished previously.

To prevent excessive vibrations of the elevators, which could result in reduced structural integrity and reduced controllability of the airplane, accomplish the following:

Detailed Inspection and Corrective Action

(a) Within 800 flight hours after the effective date of this AD, perform a detailed inspection to determine the position of each tail cone triangle in accordance with the Accomplishment Instructions of Airbus Service Bulletin A320-27-1132, Revision 01, dated June 19, 2002. If the position of the tail cone triangle is not within the limits specified in the service bulletin: Within 3,500 hours after the inspection, re-rig the elevator servo controls to adjust the elevator neutral setting, and change the position of the tail cone triangle, in accordance with the service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Actions Accomplished Per Previous Release of the Service Bulletin

(b) Actions accomplished prior to the effective date of this AD in accordance with Airbus Service Bulletin A320-27-1132, dated March 14, 2001, are considered acceptable for compliance with the corresponding actions required by this AD.

No Reporting Requirement

(c) Although the service bulletin specifies to submit certain information to the manufacturer, this AD does not include such a requirement.

Alternative Methods of Compliance

(d) In accordance with 14 CFR 39.19, the Manager, International Branch, ANM-116, FAA, Transport Airplane Directorate, is authorized to approve alternative methods of compliance for this AD.

Note 2: The subject of this AD is addressed in French airworthiness directive 2002-514(B) R1, dated November 13, 2002.

Issued in Renton, Washington, on June 9, 2004.
Kalene C. Yanamura,
Acting Manager, Transport Airplane Directorate, Aircraft Certification Service.

[FR Doc. 04-13868 Filed 6-17-04; 8:45 am]

BILLING CODE 4910-13-P